DEPARTMENT OF COMMERCE

International Trade Administration

[A-489-826]

Certain Hot-Rolled Steel Flat Products From the Republic of Turkey: Preliminary Results and Partial Rescission of Antidumping Duty Administrative Review; 2020-2021

AGENCY: Enforcement and Compliance, International Trade Administration, Department of Commerce.

SUMMARY: The U.S. Department of Commerce (Commerce) preliminarily determines that the sole mandatory respondent, Habas Sinai ve Tibbi Gazlar Istihsal Endustrisi A.S. (Habas), a producer and exporter of certain hot-rolled steel flat products (hot-rolled steel) from the Republic of Turkey (Turkey), did not make sales of subject merchandise in the United States at prices below normal value during the period of review (POR) October 1, 2020, through September 30, 2021. We are also rescinding the review with respect to 13 companies because all requests for review for these companies have been withdrawn. We invite all interested parties to comment on these preliminary results.

DATES: Applicable November 4, 2022.

FOR FURTHER INFORMATION CONTACT: Lingjun Wang, AD/CVD Operations, Office VII, Enforcement and Compliance, International Trade Administration, U.S. Department of Commerce, 1401 Constitution Avenue NW, Washington, DC 20230; telephone: (202) 482-2316.

SUPPLEMENTARY INFORMATION:

Background

Commerce is conducting an administrative review of the antidumping duty order on hot-rolled steel from Turkey,¹ in accordance with section 751(a)(1)(B) of Tariff Act of 1930, as amended (the Act). On November 29, 2021, in accordance with 19 CFR 351.221(c)(1)(i), as requested by the domestic producers and Habas,² we initiated this administrative review of the Order covering 14 producers or exporters of the subject merchandise.³ On January 27, 2022, Commerce selected Habas as the sole mandatory respondent.⁴ On February 10, 2022, the domestic producers withdraw their request for review.⁵

¹ See Certain Hot-Rolled Steel Flat Products from Australia, Brazil, Japan, the Republic of Korea, the Netherlands, the Republic of Turkey, and the United Kingdom: Amended Final Affirmative Antidumping Determinations for Australia, the Republic of Korea, and the Republic of Turkey and Antidumping Duty Orders, 81 FR 67962 (October 3, 2016) (Order); see also Certain Hot-Rolled Steel Flat Products from Turkey: Notice of Court Decision Not in Harmony with the Amended Final Determination in the Less-Than-Fair-Value Investigation; Notice of Amended Final Determination, Amended Antidumping Duty Order, Notice of Revocation of Antidumping Duty Order in Part; and Discontinuation of the 2017-18 and 2018-19 Antidumping Duty Administrative Reviews, in Part, 85 FR 29399 (May 15, 2020) (Timken Notice).

² The domestic producers are Cleveland-Cliffs Inc., Steel Dynamics Inc., SSAB Enterprises, LLC, Nucor Corporation, and United States Steel Corporation (collectively, the domestic producers). See Domestic Producers' Letter, “Request for Administrative Review,” dated November 1, 2021; see also Habas' Letter, “Request for administrative review,” dated October 29, 2021.

³ See Initiation of Antidumping and Countervailing Duty Administrative Reviews, 86 FR 67685 (November 29, 2021).

⁴ See Memorandum, “Respondent Selection Memorandum,” dated January 27, 2022.

⁵ See Domestic Producers' Letter, “Withdrawal of Request for Administrative Review,” dated February 10, 2022.

On June 9, 2022, we extended the time limit for issuing these preliminary results until October 28, 2022.⁶ For a detailed description of the events that followed the initiation of this review, see the Preliminary Decision Memorandum.⁷

⁶ See Memorandum, “Extension of Deadline for Preliminary Results,” dated June 9, 2022.

⁷ See Memorandum, “Decision Memorandum for the Preliminary Results and Partial Recission of the Antidumping Duty Administrative Review of Certain Hot-Rolled Steel Flat Products from the Republic of Turkey; 2020-2021,” dated concurrently with, and hereby adopted by, this notice (Preliminary Decision Memorandum).

Scope of the Order

The merchandise covered by the Order is certain hot-rolled steel flat products. For a complete description of the scope of the Order, see the Preliminary Decision Memorandum.⁸

⁸ Id.; see also Order.

Partial Rescission of Administrative Review

Commerce initiated this review for 14 companies. Pursuant to 19 CFR 351.213(d)(1), Commerce will rescind an administrative review, in whole or in part, if the party that requested the review withdraws its request within 90 days of the publication of the Initiation Notice. Because all requests for the administrative review of the 13 companies listed in Appendix II were timely withdrawn, Commerce is rescinding this review, in part, with respect to these companies, in accordance with 19 CFR 351.213(d)(1).

Methodology

Commerce is conducting this review in accordance with section 751(a) of the Act. Export prices are calculated in accordance with section 772 of the Act and normal value is calculated in accordance with section 773 of the Act. For a full description of the methodology underlying these preliminary results, see the Preliminary Decision Memorandum. A list of topics discussed in the Preliminary Decision Memorandum is attached at Appendix I to this notice.

The Preliminary Decision Memorandum is a public document and is on file electronically via Enforcement and Compliance's Antidumping and Countervailing Duty Centralized Electronic Service System (ACCESS). ACCESS is available to registered users at https://access.trade.gov. In addition, a complete version of the Preliminary Decision Memorandum can be accessed directly at https://access.trade.gov/public/FRNoticesListLayout.aspx.

Preliminary Results of Review

We preliminarily determine the following weighted-average dumping margins for the period October 1, 2020, through September 30, 2021:

Producer/exporter | Weighted- average dumping margin (percent)
Habas Sinai ve Tibbi Gazlar Istihsal Endustrisi A.S | 0.00

Assessment Rates

Upon issuance of the final results, Commerce will determine, and U.S. Customs and Border Protection (CBP) shall assess, antidumping duties on all appropriate entries covered by this review.⁹ The final results of this review shall be the basis for the assessment of antidumping duties on entries of merchandise covered by this review and for future deposits of estimated duties, where applicable.¹⁰ Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

⁹ See 19 CFR 351.212(b).

¹⁰ See section 751(a)(2)(C) of the Act.

Pursuant to 19 CFR 351.212(b)(1), if Habas' weighted-average dumping margin is not zero or de minimis (i.e., less than 0.5 percent) in the final results of this review, we will calculate an importer-specific ad valorem duty assessment rate based on the ratio of the total amount of dumping calculated for the U.S. sales for a given importer to the total entered value of those sales. If, in the final results, either Habas' weighted-average dumping margin is zero or de minimis within the meaning of 19 CFR 351.106(c)(1), or an importer-specific assessment rate is zero or de minimis, we will instruct CBP to liquidate the appropriate entries without regard to antidumping duties.

For entries of subject merchandise during the POR produced by Habas for which it did not know that its merchandise was destined for the United States, we will instruct CBP to liquidate such unreviewed entries pursuant to the reseller policy,¹¹ i.e., the assessment rate for such entries will be equal to the all-others rate established in the investigation (i.e., 2.73 percent),¹² if there is no rate for the intermediate company(ies) involved in the transaction.

¹¹ See Antidumping and Countervailing Duty Proceedings: Assessment of Antidumping Duties, 68 FR 23954 (May 6, 2003).

¹² See Timken Notice.

For the companies for which we have rescinded this review, Commerce intends to instruct CBP to assess antidumping duties on all appropriate entries at a rate equal to the cash deposit rate of estimated antidumping duties required at the time of entry, or withdrawal from warehouse, for consumption, during the POR, in accordance with 19 CFR 351.212(c)(1)(i).

Cash Deposit Requirements

The following deposit requirements will be effective for all shipments of the subject merchandise entered, or withdrawn from warehouse, for consumption on or after the publication date of the final results of this administrative review, as provided by section 751(a)(2)(C) of the Act: (1) the cash deposit rate for Habas will be equal to its weighted-average dumping margin established in the final results of this review (except if the ad valorem rate is de minimis within the meaning of 19 CFR 351.106(c)(1), in which case the cash deposit rate will be zero); (2) for previously investigated companies not participating in this review, the cash deposit will continue to be the company-specific rate published for the most recently completed segment of this proceeding in which the company participated; (3) if the exporter is not a firm covered in this review, or the underlying investigation, but the producer is, then the cash deposit rate will be the rate established for the completed segment for the most recent POR for the producer of the merchandise; and (4) the cash deposit rate for all other producers or exporters will continue to be 2.73 percent, the all-others rate established in the underlying investigation.¹³

¹³ See Timken Notice.

These deposit requirements, when imposed, shall remain in effect until further notice.

Disclosure and Public Comment

Commerce intends to disclose the calculations performed in connection with these preliminary results to interested parties within five days after the date of publication of this notice in accordance with 19 CFR 351.224(b).

Interested parties may submit case briefs no later than 30 days after the date of publication of this notice.¹⁴ Rebuttal briefs, limited to issues raised in the case briefs, may be filed not later than seven days after the time limit for filing case briefs.¹⁵ Parties who submit case briefs or rebuttal briefs in this proceeding are encouraged to submit with each argument: (1) a statement of the issue; (2) a brief summary of the argument; and (3) a table of authorities.¹⁶ Executive summaries should be limited to five pages total, including footnotes. Case and rebuttal briefs should be filed using ACCESS and must be served on interested parties.¹⁷

¹⁴ See 19 CFR 351.309(c)(1)(ii); see also 19 CFR 351.303 (for general filing requirements).

¹⁵ See 19 CFR 351.309(d)(1).

¹⁶ See 19 CFR 351.309(c)(2) and (d)(2).

¹⁷ See 19 CFR 351.303.

Pursuant to 19 CFR 351.310(c), interested parties who wish to request a hearing must submit a written request to the Assistant Secretary for Enforcement and Compliance, filed electronically via ACCESS. Hearing requests should contain: (1) the party's name, address, and telephone number; (2) the number of participants; and (3) a list of issues to be discussed. Issues raised in the hearing will be limited to issues raised in the briefs. If a request for a hearing is made, Commerce intends to hold the hearing at a time and date to be determined.¹⁸ Parties should confirm by telephone the date, time, and location of the hearing two days before the scheduled date. An electronically-filed document must be received successfully in its entirety by ACCESS by 5 p.m. Eastern Time within 30 days after the date of publication of this notice.¹⁹ Note that Commerce has temporarily modified certain of its requirements for serving documents containing business proprietary information, until further notice.²⁰

¹⁸ See 19 CFR 351.310(c).

¹⁹ See 19 CFR 351.310(c); see also 19 CFR 351.303(b)(1).

²⁰ See Temporary Rule Modifying AD/CVD Service Requirements Due to COVID-19; Extension of Effective Period, 85 FR 41363 (July 10, 2020).

Commerce intends to issue the final results of this administrative review, including the results of its analysis of issues raised in all written briefs, not later than 120 days after the publication of these preliminary results in the Federal Register pursuant to section 751(a)(3)(A) of the Act and 19 CFR 351.213(h)(1), unless otherwise extended.²¹

²¹ See section 751(a)(3)(A) of the Act.

Notification to Importers

This notice serves as a preliminary reminder to importers of their responsibility under 19 CFR 351.402(f)(2) to file a certificate regarding the reimbursement of antidumping and/or countervailing duties prior to liquidation of the relevant entries during this review period. Failure to comply with this requirement could result in Commerce's presumption that reimbursement of antidumping and/or countervailing duties occurred and the subsequent assessment of double antidumping duties.

Notification to Interested Parties

We are issuing and publishing these results in accordance with sections 751(a)(1) and 777(i)(1) of the Act, and 19 CFR 351.221(b)(4).

Dated: October 28, 2022.
Lisa W. Wang,
Assistant Secretary for Enforcement and Compliance.

Appendix I

List of Topics Discussed in the Preliminary Decision Memorandum

I. Summary

II. Background

III. Scope of the Order

IV. Partial Recission of the Review

V. Discussion of the Methodology

VI. Currency Conversion

VII. Recommendation

Appendix II

Companies Rescinded From Review

1. Agir Haddecilik A.S.

2. Cag Celik Demir ve Celik.

3. Colakoglu Dis Ticaret A.S. and Colakoglu Metalurji, A.S.

4. Eregli Demir ve Celik Fabrikalari T.A.S.

5. Gazi Metal Mamulleri Sanayi Ve Ticaret A.S.

6. Habas Industrial and Medical Gases Production Industries Inc.

7. Iskenderun Iron & Steel Works Co. (a/k/a/Iskenderun Demir ve Celik A.S.)

8. Kayseri Metal Center San. ve Tic. A.S.

9. Kibar Group (Kibar Dis Ticaret A.S.)

10. MMK Atakas Metalurji

11. Ozkan Iron and Steel Ind.

12. Seametal Sanayi ve Dis Ticaret Limited Sirketi

13. Tosyali Holding (Toscelik Profile and Sheet Ind. Co., Toscelik Profil ve Sac A.S.)

[FR Doc. 2022-24025 Filed 11-3-22; 8:45 am]

BILLING CODE 3510-DS-P